FEDERAL COMMUNICATIONS COMMISSION

47 CFR Part 1

[CG Docket No. 12-129; FCC 12-129]

Implementation of the Middle Class Tax Relief and Job Creation Act of 2012; Establishment of a Public Safety Answering Point Do-Not-Call Registry

AGENCY: Federal Communications Commission.

ACTION: Correcting amendments.

SUMMARY: This document contains a correction to the final regulations of the Commission's rules, which were published in the Federal Register on November 29, 2012, 77 FR 71131. The final regulations establish a do-not-call registry for public safety answering points (PSAP) and prohibit the use of automatic dialing equipment to contact those registered numbers.

DATES: Effective February 13, 2013.

FOR FURTHER INFORMATION CONTACT: Richard D. Smith, Consumer and Governmental Affairs Bureau at (717) 338-2797 or email Richard.Smith@fcc.gov.

SUPPLEMENTARY INFORMATION: The Federal Communications Commission published a document amending 47 CFR 1.80 in the Federal Register on November 29, 2012, (77 FR 71131). The amended rules are necessary to implement the enforcement provisions of the Middle Class Tax Relief and Job Creation Act of 2012 as applicable to the PSAP Do-Not-Call registry.

Need for Correction

As published, the final regulations inadvertently created two § 1.80(b)(7)'s in the Commission's rules and needs to be corrected accordingly.

List of Subjects in 47 CFR Part 1

Administrative practice and procedure.

Federal Communications Commission.
Marlene H. Dortch,
Secretary.

Accordingly, 47 CFR part 1 is corrected by making the following correcting amendments:

PART 1—PRACTICE AND PROCEDURE

1. The authority citation for part 1 is revised to read as follows:

Authority: 15 U.S.C. 79 et seq.; 47 U.S.C. 151, 154(i), 154(j), 155, 157, 225, 227, 303(r), and 309, the Middle Class Tax Relief and Job Creation Act of 2012, Pub. L. 112-96, and 47 U.S.C. 1473.

Subpart A—General Rules of Practice and Procedure

2. Amend § 1.80 by redesignating the second paragraph (b)(7) as paragraph (b)(9) and republishing the heading of newly redesignated paragraph (b)(9) to read as follows:

§ 1.80 Forfeiture proceedings.

(b) * * *

(9) Inflation adjustments to the maximum forfeiture amount. * * *

* * * * *

[FR Doc. 2013-03230 Filed 2-12-13; 8:45 am]

BILLING CODE 6712-01-P